DEPARTMENT OF COMMERCE

International Trade Administration.

Notice of an Opportunity To Apply for Membership on the U.S. Travel and Tourism Advisory Board

SUMMARY: The Department of Commerce is currently seeking applications for membership on the U.S. Travel and Tourism Advisory Board (Board). The purpose of the Board is to advise the Secretary of Commerce on matters relating to the travel and tourism industry.

SUPPLEMENTARY INFORMATION: The Office of Advisory Committees is accepting applications for Board members. Members shall serve until the Board's charter expires on September 21, 2007. Members will be selected based on our judgement of the candidates' proven experience in promoting, developing, and implementing advertising and marketing programs for travel-related or tourism-related industries; or the candidates' proven abilities to manage tourism-related or other service-related organizations. Each Board member shall serve as the representative of a tourism-related “U.S. entity.” However, for the purposes of eligibility, a U.S. entity shall be defined as a firm incorporated in the United States (or an unincorporated firm with its principal place of business in the United States) that is controlled by U.S. citizens or by another U.S. entity. An entity is not a U.S. entity if 50 percent plus one share of its stock (if a corporation, or a similar ownership interest of an unincorporated entity) is controlled, directly or indirectly, by non-U.S. citizens or non-U.S. entities. Priority may be given to chief executive officers or a similarly-situated officer of a tourism-related entity. Priority may also be given to individuals with international tourism marketing experience.

Officers or employees of state and regional tourism marketing entities are also eligible for consideration for Board membership. A state and regional tourism marketing entity, may include, but is not limited to, state government tourism office, state and/or local government supported tourism marketing entities, or multi-state tourism marketing entities. Again, priority may be given to chief executive officers or a similarly-situated officer.

Secondary selection criteria will ensure that the board has a balanced representation of the tourism-related industry in terms of point of view, demographics, geography and company size. The Board members will be selected on the basis of their experience and knowledge of the tourism industry. Members will serve at the discretion of the Secretary of Commerce.

Board members shall serve in a representative capacity presenting the views and interests of the particular tourism-related sector in which they operate. Board members are not special government employees, and will receive no compensation for their participation in Board activities. Members participating in Board meetings and events will be responsible for their travel, living and other personal expenses. Meetings will be held regularly, usually in Washington, DC. The first Board meeting has not yet been determined.

To be considered for membership, please provide the following: 1. Name and title of the individual requesting consideration. 2. A letter of recommendation containing a brief statement of why the applicant should be considered for membership on the Board. This recommendation should also include the applicant's tourism-related experience. 3. The applicant's personal resume. 4. An affirmative statement that the applicant is not required to register as a foreign agent under the Foreign Agents Registration Act of 1938, as amended. 5. If a state or regional tourism marketing entity, the functions and responsibilities of the entity. 6. The company's size and ownership, product or service line and major markets in which the company operates.

ADDRESSES: Please submit application information to J. Marc Chittum, Office of Advisory Committees, U.S. Travel and Tourism Advisory Board Executive Secretariat, U.S. Department of Commerce, Room 4043, 1401 Constitution Avenue, NW., Washington, DC 20230.

Deadline: All applications must be received by the Office of Advisory Committees by close of business on September 22, 2006.

FOR FURTHER INFORMATION CONTACT: J. Marc Chittum, (202) 482-4501.

Dated: August 16, 2006.
J. Marc Chittum,
Executive Secretary, U.S. Travel & Tourism Advisory Board.

[FR Doc. E6-13855 Filed 8-21-06; 8:45 am]

BILLING CODE 3510-DR-P